DEPARTMENT OF DEFENSE

Office of the Secretary

Reserve Forces Policy Board; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Reserve Forces Policy Board (RFPB) will take place.

DATES: The RFPB will hold a meeting on Wednesday, December 13, 2017 from 8:10 a.m. to 3:50 p.m. The portion of the meeting from 8:10 a.m. to 12:05 p.m. will be closed to the public. The portion of the meeting from 1:00 p.m. to 3:50 p.m. will be open to the public.

ADDRESSES: The RFPB meeting address is the Pentagon, Room 3E863, Arlington, VA.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Web site: http://rfpb.defense.gov/. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to obtain, review, and evaluate information related to strategies, policies, and practices designed to improve and enhance the capabilities, efficiency, and effectiveness of the Reserve Components.

Agenda: The RFPB will hold a meeting from 8:10 a.m. to 3:50 p.m. The portion of the meeting from 8:10 a.m. to 12:05 p.m. will be closed to the public and will consist of remarks to the RFPB from following invited speakers: The Deputy Secretary of Defense will address key national military strategy challenges facing our Nation and priorities for adapting the force and the use of the Reserve Components to accomplish these challenges. The Commander, U.S. Northern Command will discuss the readiness, availability, and use of the National Guard and Reserve within the Northern Command with their increased emphasis on the homeland security missions for the Reserve Component members. The Acting Secretary of the U.S. Army will discuss the Army's posture, status on the Report of the National Commission on the Future of the Army recommendations, and plans to adapt the Total Army to meet future challenges. The Institute for Defense Analysis (IDA) will brief the findings of the current IDA study on the Reserve Components performance during Operation Enduring Freedom. Major General Sheila Zuehlke, USAFR (Retired), Subcommittee on Enhancing DoD's Role in the Homeland Board Member and RADML David Dermanelian, USCG, J7, Director, Exercises and Training, USCYBERCOM will discuss the USCYBERCOM's Service's cyber training and certification program, and the use of the National Guard and Reserve to meet the cyber threats. The portion of the meeting from 1:00 p.m. to 3:50 p.m. will be open to the public and will consist of briefings from the following: The Chief of the Air Force Reserve will discuss the Air Force Reserve goals, readiness objectives, and challenges for the “Operational Reserve” as part of the Total Force. The Adjutant General of Texas National Guard and the Director of the Joint Staff, Joint Force Headquarters of Texas National Guard will discuss the recent Texas domestic operations involving the Texas National Guard during Hurricane Harvey. The National Chair, Employer Support of the Guard and Reserve will discuss the Employer Support of the Guard and Reserve's mission of facilitating and promoting a cooperative culture of employer support for National Guard and Reserve. The Chair of the RFPB's Subcommittee on Supporting & Sustaining Reserve Component Personnel will present to the RFPB the subcommittee's proposed recommendations to the Secretary of Defense concerning the OUSD P&R Duty Status Reform proposal and the co-sponsored National Guard Bureau's and OASD Manpower & Reserve Affairs Reserve Integration's study on the Reserve Component Travel Pay.

Meeting Accessibility: Pursuant to section 10(a)(1) of the FACA and 41 CFR 102-3.140 through 102-3.165, and subject to the availability of space, the meeting is open to the public from 1:00 p.m. to 3:50 p.m. Seating is on a first-come, first-served basis. All members of the public who wish to attend the public meeting must contact Mr. Alex Sabol, the Designated Federal Officer, no later than 12:00 p.m. on Tuesday, December 12, 2017, as listed in the FOR FURTHER INFORMATION CONTACT section to make arrangements for a Pentagon escort, if necessary. Public attendees requiring escort should arrive at the Pentagon Metro Entrance at 12:30 p.m. to provide sufficient time to complete security screening to attend the beginning of the Open Meeting at 1:00 p.m. on December 13. To complete the security screening, please be prepared to present two forms of identification. One must be a picture identification card. In accordance with section 10(d) of the FACA, 5 U.S.C. 552b(c), and 41 CFR 102-3.155, the DoD has determined that the portion of this meeting scheduled to occur from 8:10 a.m. to 12:05 p.m. will be closed to the public. Specifically, the Under Secretary of Defense (Personnel and Readiness), in coordination with the Department of Defense FACA Attorney, has determined in writing that this portion of the meeting will be closed to the public because it is likely to disclose classified matters covered by 5 U.S.C. 552b(c)(1).

Written Statements: Pursuant to section 10(a)(3) of the FACA and 41 CFR 102-3.105(j) and 102-3.140, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates under the provisions of the FACA, all submitted comments and public presentations will be treated as public documents and will be made available for public inspection, including, but not limited to, being posted on the RFPB's Web site.

Dated: November 20, 2017.
Aaron Siegel,
Alternate OSD Federal Register Liaison Officer, Department of Defense.

[FR Doc. 2017-25431 Filed 11-22-17; 8:45 am]

BILLING CODE 5001-06-P